DEPARTMENT OF THE TREASURY

Submission for OMB Review; Comment Request

June 12, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 17, 2006 to be assured of consideration.

Internal Revenue Service (IRS)

OMB Number: 1545-0025.

Type of Review: Extension.

Title: Affiliations Schedule.

Form: IRS 851.

Description: Form 851 provides IRS with information to ascertain (1) the names and identification numbers of the numbers of members of the affiliated group included in the consolidated return, (2) taxes paid by each member of the group, and (3) stock ownership; changes in stock ownership and other information to determine that each corporation is a qualified member of the affiliated group as defined in section 1504 of the code.

Respondents: Business or other for-profit; Farms.

Estimated Total Burden Hours: 51,040 hours.

OMB Number: 1545-1014.

Type of Review: Extension.

Title: Form 1066, U.S. Real Estate Mortgage Investment Conduit (REMIC) Income Tax Return; Schedule Q (Form 1066) Quarterly Notice to Residual Interest Holder of REMIC Taxable Income or Net Loss Allocation.

Form: IRS 1066 and Schedule Q (Form 1066).

Description: Form 1066 and Schedule Q (Form 1066) are used by a real estate mortgage investment conduit (REMIC) to figure its tax liability and income and other tax-related information to pass through to its residual holders. IRS uses the information to determine the correct tax liability of the REMIC and its residual holders.

Respondents: Business or other for-profit.

Estimated Total Burden Hours: 758,989 hours.

OMB Number: 1545-1502.

Type of Review: Revision.

Title: Form 5304-SAMPLE, Savings Incentive Match Plan for Employees of Small Employers (SIMPLE)—Not for Use With a Designated Financial Institution; Form 5305-SIMPLE, Savings Incentive Match Plan for Employees of Small Employers (SIMPLE)—for Use With a Designated Financial Institution; and Notice 98-4, Simple IRA Plan Guidance.

Form: IRS 5304-SIMPLE, 5305-SIMPLE, and Notice 98-4.

Description: Forms 5304-SIMPLE and 5035-SIMPLE are used by an employer to permit employees to make salary reduction contributions to a savings incentive match plan (SIMPLE IRA) described in Code section 408(p). These forms are not to be filed with IRS, but to be retained in the employers' records as proof of establishing such a plan, thereby justifying a deduction for contributions made to the SIMPLE IRA. The data is used to verify the deduction. Notice 98-4 provides guidance for employers and trustees regarding how they can comply with the requirements of Code section 408(p) in establishing and maintaining a SIMPLE Plan, including information regarding the notification and reporting requirements under Code section 408.

Respondents: Individuals or households; Business or other for-profit; Not-for-profit institutions.

Estimated Total Burden Hours: 2,113,000 hours.

OMB Number: 1545-2003.

Type of Review: Extension.

Title: Notice 2006-24, Qualifying Advanced Coal Project Program.

Description: This notice establishes the qualifying advanced coal project program under section 48A of the Internal Revenue Code. The notice provides the time and manner for a taxpayer to apply for an allocation of qualifying advanced coal project credits and, once the taxpayer has received this allocation, the time and manner for the taxpayer to file for a certification of its qualifying advanced coal project.

Respondents: Business or other for-profit.

Estimated Total Burden Hours: 4,950 hours.

OMB Number: 1545-2007.

Type of Review: Extension.

Title: Employer's Annual Employment Tax Return.

Form: IRS 944.

Description: The information on Form 944 will be collected to ensure the smallest nonagricultural and non-household employers are paying the correct amount of social security tax, Medicare tax, and withheld federal income tax. Information on line 13 will be used to determine if employers made any required deposits of these taxes.

Respondents: Individuals or households; Business or other for-profit; Not-for-profit institutions; State, Local or Tribal Government.

Estimated Total Burden Hours: 14,212,000 hours.

Clearance Officer: Glenn P. Kirkland, Internal Revenue Service, Room 6516,1111 Constitution Avenue, NW., Washington, DC 20224, (202) 622-3428.

OMB Reviewer: Alexander T. Hunt, Office of Management and Budget, Room 10235, New Executive Office Building, Washington, DC 20503, (202) 395-7316.

Michael A. Robinson,
Treasury PRA Clearance Officer.

[FR Doc. E6-9450 Filed 6-15-06; 8:45 am]

BILLING CODE 4810-01-P